DEPARTMENT OF THE INTERIOR

Fish and Wildlife Service

Availability of Draft Comprehensive Conservation Plan and Environmental Assessment for Seedskadee National Wildlife Refuge, Green River, WY

AGENCY: Fish and Wildlife Service, Interior.

ACTION: Notice of Availability.

SUMMARY: Pursuant to the Refuge Improvement Act of 1997, the U.S. Fish and Wildlife Service has published the Draft Seedskadee National Wildlife Refuge Comprehensive Conservation Plan and Environmental Assessment. This Plan describes how the FWS intends to manage the Seedskadee NWR for the next 10 to 15 years.

DATES: Submit written comments by November 30, 2001. All comments need to be addressed to: Carol Damberg, Refuge Manager, U.S. Fish and Wildlife Service, Seedskadee National Wildlife Refuge, P.O. Box 700, Green River, WY 82935

ADDRESSES: A copy of the Draft Plan may be obtained by writing to U.S. Fish and Wildlife Service, Seedskadee NWR, P.O. Box 700, Green River, WY 82935 or from http://www.r6.fws.gov/larp/.

FOR FURTHER INFORMATION CONTACT: Carol Damberg, U.S. Fish and Wildlife Service, Seedskadee NWR, P.O. Box 700, Green River, WY 82935, phone 307/875-2187; fax 307/875-4425; E-Mail: carol_damberg@fws.gov.

SUPPLEMENTARY INFORMATION: The 26,382-acre Seedskadee National Wildlife Refuge is located within the Central Flyway, the Upper Colorado River Ecosystem, and the Green River Basin in southwestern Wyoming, about 37 miles northwest of the city of Green River, WY. Seedskadee NWR was established in 1965 through the Colorado River Storage Project Act of 1956. Section 8 of this Act provided for the establishment of wildlife habitat development areas to offset the loss of wildlife habitat resulting from reservoir development in the Colorado River Drainage. The Seedskadee Reclamation Act of 1958 specifically authorized acquisition of lands for Seedskadee NWR. Seedskadee NWR's purpose is defined by two pieces of Federal enabling legislation. The principal purpose of Seedskadee NWR is to provide for the conservation, maintenance, and management of wildlife resources and its habitat including the development and improvement of such wildlife resources (Fish and Wildlife Coordination Act 16 U.S.C. 664). Additionally, the Refuge is charged to protect the scenery, cultural resources, and other natural resources and provide for public use and enjoyment of compatible wildlife-dependent activities (Colorado River Storage Act 43 U.S.C. 620g). Besides these, the 35th legislature of the State of Wyoming passed enrolled Act No. 54 in 1959 “providing consent of the State of Wyoming to the acquisition by the United States where approved by the Wyoming Game and Fish Commission and the State Land Board, of lands for the establishment of migratory bird refuges.” All efforts leading to the preparation of this draft CCP were undertaken to provide the Refuge with a vision for the future, guidelines for wildlife and habitat management over the next 15 years to ensure progress is made toward attaining the mission and goals of Seedskadee NWR and the Refuge System, and to comply with Congressional mandates stated in the National Wildlife Refuge System Improvement Act of 1997. The CCP will be used to prepare step-down management plans and revise existing plans. It also will be used to prepare budgets which describe specific actions to be taken by the Refuge over the next 15 years. Given that new information, guidance and technology frequently change and become available, the CCP will be updated as necessary throughout the 15-year period.

Dated: October 10, 2001.
John A. Blankenship,
Deputy Regional Director, Denver, Colorado.

[FR Doc. 01-27373 Filed 10-30-01; 8:45 am]

BILLING CODE 4310-55-P